DEPARTMENT OF ENERGY

Federal Energy Regulatory Commission

[Docket No. CP10-448-000]

Appalachian Gateway Project; Notice of Availability of Draft General Conformity Analysis

In accordance with the National Environmental Policy Act of 1969, the Clean Air Act and the Federal Energy Regulatory Commission's (Commission or FERC's) regulations, Commission staff has prepared this draft General Conformity Determination (GCD) for the Appalachian Gateway Project (Project) to assess the potential air quality impacts associated with the construction and operation of natural gas pipelines, compressor stations, and aboveground facilities currently being constructed by Dominion Transmission, Inc (Dominion) under Docket Number CP10-448-000 in Pennsylvania.

The FERC staff concludes that the Project will achieve conformity in Pennsylvania with the use of Pennsylvania Department of Environmental Protection emission credits. If significant new comments are received by the end of the 30-day public comment period, which ends on September 2, 2012, FERC staff will issue a final GCD to address any changes necessary and respond to comments. If no new significant comments are received, FERC staff will issue a public notice identifying this GCD as final.

The revised draft GCD addresses the potential air quality impacts on Pennsylvania air quality from the construction and operation of the Project. The Project consists of the following natural gas pipeline facilities in West Virginia and Pennsylvania: construction of 109.1 miles of 20-inch, 24-inch, and 30-inch-diameter interstate natural gas transmission pipeline, four new compressor stations, and modifications to two existing compressor stations.

Any person wishing to comment on the draft GCD may do so. To ensure that your comments are properly recorded and considered prior to issuance of the final GCD, it is important that we receive your comments in Washington, DC on or before September 2, 2012.

For your convenience, there are three methods you can use to submit your comments to the Commission. In all instances please reference the project docket number (CP10-448-000) with your submission. The Commission encourages electronic filing of comments and has dedicated eFiling expert staff available to assist you at 202-502-8258 or efiling@ferc.gov.

(1) You may file your comments electronically by using the Quick Comment feature, which is located on the Commission's Web site at http://www.ferc.gov under the link to Documents and Filings. A Quick Comment is an easy method for interested persons to submit text-only comments on a project;

(2) You may file your comments electronically by using the eFiling feature, which is located on the Commission's Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing”; or

(3) You may file a paper copy of your comments at the following address: Kimberly D. Bose, Secretary, Federal Energy Regulatory Commission, 888 First Street NE., Room 1A, Washington, DC 20426.

Additional information about the project is available from the Commission's Office of External Affairs at (866) 208-FERC. The administrative public record for this proceeding to date is on the FERC Web site http://www.ferc.gov. Go to Documents Filings and choose the eLibrary link. Under eLibrary, click on “General Search,” and enter the docket number excluding the last three digits in the Docket Number field (e.g., CP010-448). Be sure you have selected an appropriate date range. For assistance, please contact FERC Online Support at: FERCOnlineSupport@ferc.gov or toll free at (866) 208-3676, or for TTY call (202) 502-8659. The eLibrary link on the FERC Web site also provides access to the texts of formal documents issued by the Commission, such as orders, notices, and rulemakings.

You may also register online at www.ferc.gov/docs-filing/esubscription.asp to be notified via email of new filings and issuances related to this or other pending projects. For assistance, contact FERC Online Support.

For further information, contact Eric Tomasi by telephone at 202-502-8097 or by email at Eric.Tomasi@ferc.gov.

Dated: August 2, 2012.
Kimberly D. Bose,
Secretary.

[FR Doc. 2012-19506 Filed 8-8-12; 8:45 am]

BILLING CODE 6717-01-P